DEPARTMENT OF LABOR

Employment and Training Administration

Employment and Training Administration Program Year (PY) 2017; Workforce Innovation and Opportunity Act (WIOA) Section 167, National Farmworker Jobs Program (NFJP) Allocations

AGENCY: Employment and Training Administration, Labor.

ACTION: Notice.

SUMMARY: This Notice announces allocations for Program Year (PY) 2017 for the WIOA Title I Section 167 National Farmworker Jobs Program (NFJP) program as required under Section 182(d) of the Workforce Innovation and Opportunity Act of 2014.

The NFJP allocations are distributed to the state service areas by a formula that estimates, by State, the relative demand for NFJP services. The formula factors used to allocate funds for the NFJP were published in the Federal Register on May 19, 1999. The notice explained the purpose of the formula; i.e., distributing funds geographically by State service area on the basis of each area's relative share of farmworkers who are eligible for enrollment in the NFJP. The data used in the formula are comprised of a combination of data sets that were selected to yield the relative share distribution across States of eligible farmworkers. While the data factors used in the formula remain unchanged since their development in 1999, the data sets were last updated in 2005 with data from the 2000 Census, the 2003 National Agricultural Workers Survey (NAWS), and the 2002 Census of Agriculture.

DATES: The PY 2017 NFJP allocations become effective for the program year beginning on July 1, 2017.

ADDRESSES: Questions on the allocations can be submitted to the Employment and Training Administration, Office of Financial Administration, 200 Constitution Ave. NW., Room N-4702, Washington, DC 20210, Attention: Ms. Anita Harvey, (202) 693-3958 (phone), (202) 693-2859 (fax), or email: Harvey.anita@dol.gov.

FOR FURTHER INFORMATION CONTACT: Laura Ibañez, Unit Chief (202) 693-3645 or Steven Rietzke, Division Chief (202) 693-3912. Individuals with hearing or speech impairments may access the telephone numbers above via TTY by calling the toll-free Federal Information Relay Service at 1-877-889-5627 (TTY-TDD).

SUPPLEMENTARY INFORMATION: The Department of Labor (DOL or Department) is announcing final PY 2017 allocations for the NFJP. This notice provides information on the amount of funds available during PY 2017 to State service areas awarded grants through the PY 2016 Funding Opportunity Announcement (FOA) for the National Farmworker Jobs Program (NFJP) Employment and Training and Housing Assistance Grants. The allocations are based on the funds appropriated in the Consolidated Appropriations Act, 2017, Public Law 115-31, May 5, 2017 (from this point forward, referred to as “the Act”). In appropriating these funds, Congress provided $75,885,000 for Employment and Training Grants; $5,517,000 for Housing Assistance Grants; and $494,000 for Technical Assistance and Training. The Act, Division H, Title I, sec. 106(b), allows the Secretary to set aside up to 0.5 percent of each discretionary appropriation for activities related to program integrity. For 2017, the Department set aside the full 0.5 percent of most discretionary appropriations, including migrant and seasonal farmworker program formula grants and housing. This reduced the amount available for NFJP Employment and Training grants to $75,505,575 and Housing Assistance grants to $5,489,415. The amount appropriated for discretionary purposes (technical assistance and training) was not adjusted. Included below is the table listing the PY 2017 allocations for the NFJP Employment and Training Grants, as well as the sub-allocation table for California. California is the only State service area with more than one grant; the current sub-allocation formula for California was developed in collaboration with the existing grantees. Individual grants are awarded for Housing Assistance as a result of the grants competition and are further distributed according to language in the appropriations law requiring that of the total amount available, not less than 70 percent shall be allocated to permanent housing activities, leaving not more than 30 percent to temporary housing activities.

PY 2017 Formula Allocation for NFJP

The calculation of the PY 2017 formula allocation distribution incorporates the state-by-state relative shares of eligible farmworkers developed for the PY 2005 formula allocations using the updated datasets described above, with various adjustments applied since that time. The PY 2005 calculation adjusted those state-by-state relative shares by “hold-harmless” and “stop-loss”/”stop-gain” limits due to the introduction of the updated data. The following year, the PY 2006 formula allocations were proportionately based on the PY 2005 formula allocations and further adjusted by an additional $3.8 million appropriated by Congress for States whose PY 2005 allocation had been reduced as a result of the updated data used for the PY 2005 formula allocation distribution. Detailed descriptions of the formula methodology for PY 2005 and PY 2006 formula allocations were provided in the applicable Federal Register announcements. The PY 2007 appropriation for the WIA Section 167 formula program was $470 less than the corresponding PY 2006 appropriation. To maintain stability of funding for the program and consistency with the PY 2006 congressional directions to the Department, the Department distributed the PY 2007 formula funding among all States in the same proportion as the distribution of the PY 2006 formula allocations. In all subsequent appropriations, including PY 2017, the Department continued to distribute the formula funding amount in the same proportion as the distribution of the prior year's formula amounts.

State Combinations

There will be a single plan of service for operating the PY 2017 NFJP in the State service areas of Delaware and Maryland and the State service areas of Rhode Island and Connecticut. The sub-allocations for multiple sub-state service areas in California were discussed earlier in this Notice.

PY 2018 Formula Allocation for NFJP

In February and April 2017, the Employment and Training Administration (ETA) hosted a national online dialogue to gather ideas from NFJP grantees, research analysts, economists, and other professionals on revising the existing formula and its databases to ensure incorporation of the latest available data, as required under WIOA Section 182(a). The ideas suggested by the multiple stakeholders who participated in the national online dialogue helped inform the proposed formula for PY 2018. ETA will publish the PY 2018 proposed allocation formula for comment in the fall of 2017.

Byron Zuidema,
Deputy Assistant Secretary for Employment and Training.

[FR Doc. 2017-13750 Filed 6-29-17; 8:45 am]

BILLING CODE 4510-FN-P